NATIONAL ARCHIVES AND RECORDS ADMINISTRATION

[NARA-2014-054]

Advisory Committee on the Presidential Library-Foundation Partnerships

AGENCY: National Archives and Records Administration.

ACTION: Notice of meeting.

SUMMARY: In accordance with the Federal Advisory Committee Act, as amended (5 U.S.C. appendix 2), the National Archives and Records Administration (NARA) announces a meeting of the Advisory Committee on Presidential Library-Foundation Partnerships. The meeting will be held to discuss the Presidential Library program and topics related to the public-private partnership between Presidential Libraries and Presidential Foundations. The meeting will be open to the public.

DATES: The meeting will be held on Thursday, October 23, 2014 from 10:00 a.m. to 1:00 p.m.

ADDRESSES: National Archives Building at 700 Pennsylvania Avenue NW., Washington, DC, Room 105.

FOR FURTHER INFORMATION CONTACT: Denise LeBeck at 301-837-3250 or denise.lebeck@nara.gov.

SUPPLEMENTARY INFORMATION: Meeting attendees may enter from Pennsylvania Avenue entrance. Photo identification will be required. No visitor parking is available at the Archives building; however there are commercial parking lots and metered curb parking nearby.

Dated: September 4, 2014.
Patrice Little Murray,
Committee Management Officer.

[FR Doc. 2014-21558 Filed 9-9-14; 8:45 am]

BILLING CODE 7515-01U-P